DEPARTMENT OF COMMERCE

International Trade Administration

Advisory Committee on Supply Chain Competitiveness: Notice of Public Meeting

AGENCY: International Trade Administration, U.S. Department of Commerce.

ACTION: Notice of open meeting.

SUMMARY: This notice sets forth the schedule and proposed topics of discussion for the upcoming public meeting of the Advisory Committee on Supply Chain Competitiveness (Committee).

DATES: The meeting will be held on January 20, 2022, from 12:00 p.m. to 1:30 p.m., Eastern Standard Time (EST).

ADDRESSES: The meeting will be held via Webex.

FOR FURTHER INFORMATION CONTACT: Richard Boll, Office of Supply Chain, Professional & Business Services, International Trade Administration at Email: richard.boll@trade.gov.

SUPPLEMENTARY INFORMATION: Background: The Committee was established under the discretionary authority of the Secretary of Commerce and in accordance with the Federal Advisory Committee Act (5 U.S.C. App.). It provides advice to the Secretary of Commerce on the necessary elements of a comprehensive policy approach to supply chain competitiveness and on regulatory policies and programs and investment priorities that affect the competitiveness of U.S. supply chains. For more information about the Committee visit: https://www.trade.gov/acscc.

Matters To Be Considered: Committee members are expected to continue discussing the major competitiveness-related topics raised at the previous Committee meetings, including supply chain resilience and congestion; trade and competitiveness; freight movement and policy; trade innovation; regulatory issues; finance and infrastructure; workforce development; and the work of the Committee's subcommittees. The agenda may change to accommodate other Committee business.

The meeting is open to the public and press on a first-come, first-served basis. Space is limited. Members of the public and the press wishing to participate should contact Richard Boll, at richard.boll@trade.gov, for participation information no later than 24 hours before the meeting.

Interested parties may submit written comments to the Committee at any time before and after the meeting by emailing them to richard.boll@trade.gov.

Comments may be considered at the meeting. The transcript of the meeting will be posted on the Committee website within 60 days of the meeting.

Dated: December 30, 2021.
Heather Sykes,
Director, Office of Supply Chain, Professional, and Business Services.

[FR Doc. 2021-28595 Filed 1-5-22; 8:45 am]

BILLING CODE 3510-DR-P